DEPARTMENT OF DEFENSE GENERAL SERVICES ADMINISTRATION NATIONAL AERONAUTICS AND SPACE ADMINISTRATION

48 CFR Chapter 1

[Docket No. FAR 2018-0001, Sequence No. 6]

Federal Acquisition Regulation; Federal Acquisition Circular 2019-01; Small Entity Compliance Guide

AGENCY: Department of Defense (DoD), General Services Administration (GSA), and National Aeronautics and Space Administration (NASA).

ACTION: Small entity compliance guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2019-01, which amends the Federal Acquisition Regulation (FAR). An asterisk (*) next to a rule indicates that a regulatory flexibility analysis has been prepared. Interested parties may obtain further information regarding this rule by referring to FAC 2019-01, which precedes this document. These documents are also available via the internet at http://www.regulations.gov.

DATES: December 20, 2018.

FOR FURTHER INFORMATION CONTACT: Ms. Cecelia Davis at 202-219-0202 for clarification of content. For information pertaining to status or publication schedules, contact the Regulatory Secretariat Division at 202-501-4755. Please cite FAC 2019-01, FAR Case 2015-017.

Rule Listed in FAC 2019-01
Subject | FAR case | Analyst
* Combating Trafficking in Persons—Definition of “Recruitment Fees” | 2015-017 | Davis.

SUPPLEMENTARY INFORMATION: A summary for the FAR rule follows. For the actual revisions and/or amendments made by this FAR Case, refer to the specific item number and subject set forth in the document following this item summary. FAC 2019-01 amends the FAR as follows:

Combating Trafficking in Persons—Definition of “Recruitment Fees” (FAR Case 2015-017)

This final rule amends the Federal Acquisition Regulation (FAR) to provide a definition of “recruitment fees” in FAR subpart 22.17 and the associated clause at FAR 52.222-50 to further implement the FAR policy on combating trafficking in persons. One element in combating trafficking in persons is to prohibit contractors from charging employees or potential employees recruitment fees.

This final rule will not have a significant economic impact on a substantial number of small entities.

Dated: December 10, 2018.
William F. Clark,
Director, Office of Government-wide Acquisition Policy, Office of Acquisition Policy, Office of Government-wide Policy.

[FR Doc. 2018-27544 Filed 12-19-18; 8:45 am]

BILLING CODE 6820-EP-P